COMMITTEE FOR THE IMPLEMENTATION OF TEXTILE AGREEMENTS

Denial of Participation in the Special Access Program

July 5, 2000.

AGENCY: Committee for the Implementation of Textile Agreements (CITA).

ACTION: Issuing a directive to the Commissioner of Customs suspending participation in the Special Access Program.

EFFECTIVE DATE: August 1, 2000.

FOR FURTHER INFORMATION CONTACT: Lori E. Mennitt, International Trade Specialist, Office of Textiles and Apparel, U.S. Department of Commerce, (202) 482-3400.

SUPPLEMENTARY INFORMATION:

Authority: Section 204 of the Agricultural Act of 1956, as amended (7 U.S.C. 1854); Executive Order 11651 of March 3, 1972, as amended.

The Committee for the Implementation of Textile Agreements (CITA) has determined that LDP, LLC has violated the requirements for participation in the Special Access Program, and has suspended LDP, LLC from participation in the Program for the period August 1, 2000 through July 31, 2003.

Through the letter to the Commissioner of Customs published below, CITA directs the Commissioner to prohibit entry of products under the Special Access Program by or on behalf of LDP, LLC during the period August 1, 2000 through July 31, 2003, and to prohibit entry by or on behalf of LDP, LLC under the Program of products manufactured from fabric exported from the United States during that period.

Requirements for participation in the Special Access Program are available in Federal Register notice 63 FR 16474, published on April 3, 1998.

Richard Steinkamp,
Acting Chairman, Committee for the Implementation of Textile Agreements.

Committee for the Implementation of Textile Agreements

July 5, 2000.

Commissioner of Customs,

Department of the Treasury, Washington, DC 20229.

Dear Commissioner: The purpose of this directive is to notify you that the Committee for the Implementation of Textile Agreements has suspended LDP, LLC from participation in the Special Access Program for the period August 1, 2000 through July 31, 2003. You are therefore directed to prohibit entry of products under the Special Access Program by or on behalf of LDP, LLC during the period August 1, 2000 through July 31, 2003. You are further directed to prohibit entry of products under the Special Access Program by or on behalf of LDP, LLC manufactured from fabric exported from the United States during the period August 1, 2000 through July 31, 2003.

Sincerely,
Richard Steinkamp,
Acting Chairman, Committee for the Implementation of Textile Agreements.

[FR Doc. 00-17437 Filed 7-10-00; 8:45 am]

BILLING CODE 3510-DR-F